DEPARTMENT OF THE INTERIOR

National Park Service

60-Day Notice of Intention To Request Clearance of Collection of Information; Opportunity for Public Comment

AGENCY: National Park Service, the Department of Interior.

ACTION: Notice and request for comments.

SUMMARY: In accordance with the Paperwork Reduction Act of 1995 and 5 CFR part 1320, this notice announces the National Park Service (NPS) intention to request an extension for a currently approved information collection used in the Historic Preservation Tax Incentives Program administered by the NPS. The NPS also is asking for comments on the practical utility of the information being gathered; the accuracy of the burden hour estimate; ways to enhance the quality, utility, and clarity of the information being collected; and ways to minimize the burden to respondents, including use of automated information collection techniques or other forms of information technology. This program will measure performance in meeting goals as required by the 1995 Government Performance and Results Act (GPRA).

DATES: Public comments on this notice will be accepted on or before April 1, 2003, to be assured of consideration.

ADDRESSES: Send Comments to: Sharon C. Park, Heritage Preservation Services, National Park Service, 1849 C St., NW., Org. code 2255, Washington, DC 20240-0001.

All responses to this notice will be summarized and included in the request for OMB approval. All comments will also become a matter of public record. Copies of the information collection can be obtained from Sharon C. Park, Chief, Technical Preservation Services, National Park Service, 1849 C St., NW., Org. code 2255, Washington, DC 20240-0001.

FOR FURTHER INFORMATION CONTACT: Sharon C. Park, (202)-354-2033.

SUPPLEMENTARY INFORMATION:

Title: Historic Preservation Certification Application.

OMB Number: 1024-0009.

Expiration Date of Approval: May 31, 2003.

Type of Request: Extension of a currently approved information collection.

Abstract: Section 47 of the Internal Revenue Code requires that the Secretary of the Interior certify to the Secretary of the Treasury upon application by owners of historic properties for Federal tax benefits, (a) the historic character of the property, and (b) that the rehabilitation work is consistent with that historic character. The NPS administers the program in partnership with the Internal Revenue Service. The Historic Preservation Certification Application is used by the NPS to evaluate the condition and historic significance of buildings undergoing rehabilitation for continued use, and to evaluate whether the rehabilitation work meets the Secretary of the Interior's Standards for Rehabilitation.

Respondents: Individuals or households, business or other for-profit entities.

Estimated Annual Burden on Respondents: 7,500 hours.

Estimated average burden hours per response: 2.5 hours.

Estimated average number of respondents: 3,000 annually.

Estimate frequency of response: 3,000 annually.

Dated: January 6, 2003.
Leonard E. Stowe,
Acting Information Collection Clearance Officer, National Park Service, WAPC.

[FR Doc. 03-2325 Filed 1-30-03; 8:45 am]

BILLING CODE 4310-70-M